ENVIRONMENTAL PROTECTION AGENCY

40 CFR Part 52

[EPA-R03-OAR-2011-0714; FRL-9645-6]

Approval and Promulgation of Air Quality Implementation Plans; Delaware, New Jersey, and Pennsylvania; Determinations of Attainment of the 1997 Annual Fine Particulate Standard for the Philadelphia-Wilmington Nonattainment Area; Withdrawal of Direct Final Rule

AGENCY: Environmental Protection Agency (EPA).

ACTION: Withdrawal of direct final rule.

SUMMARY: Due to an adverse comment, EPA is withdrawing the direct final rule, published on January 23, 2012 (77 FR 3147), that made two determinations regarding the Philadelphia-Wilmington fine particulate (PM2.5) nonattainment area (the Philadelphia Area), which is comprised of the New Castle County in Delaware; Burlington, Camden, and Gloucester Counties in New Jersey; and Bucks, Chester, Delaware, Montgomery, and Philadelphia Counties in Pennsylvania. First, EPA made a determination that the Philadelphia Area attained the 1997 annual PM2.5 national ambient air quality standard (NAAQS) by its attainment date of April 5, 2010. Second, EPA made a clean data determination, finding that the Philadelphia Area has attained the 1997 PM2.5 NAAQS, based on quality assured and certified ambient air monitoring data for the 2007-2009 and 2008-2010 monitoring periods. In the direct final rule, EPA stated that if we received adverse comment by February 22, 2012, the rule would be withdrawn and not take effect. EPA subsequently received adverse comments. EPA will address the comments received in a subsequent final action based upon the proposed action also published on January 23, 2012 (77 FR 3223). EPA will not institute a second comment period on this action.

DATES: The direct final rule published on January 23, 2012 (77 FR 3147) is withdrawn as of March 13, 2012.

ADDRESSES: EPA has established docket number EPA-R03-OAR-2011-0714 for this action. The index to this action is available electronically at http://www.regulations.gov and in hard copy at Air Protection Division, U.S. Environmental Protection Agency, Region III, 1650 Arch Street, Philadelphia, Pennsylvania 19103.

FOR FURTHER INFORMATION CONTACT: If you have questions concerning EPA's action related to Delaware or Pennsylvania, please contact Maria A. Pino, (215) 814-2181, or by email at pino.maria@epa.gov. If you have questions concerning EPA's action related to New Jersey, please contact Henry Feingersh, (212) 637-3382, or by email at feingersh.henry@epa.gov.

List of Subjects in 40 CFR Part 52

Environmental protection, Air pollution control, Incorporation by reference, Intergovernmental relations, Particulate matter, Reporting and recordkeeping requirements.

Dated: February 6, 2012.
W.C. Early,
Acting Regional Administrator, Region III.

Accordingly, the addition of 40 CFR 52.425, 52.427, 52.1576, 52.1602(d), 52.2056(f), and 52.2059(e), published on January 23, 2012 (77 FR 3147), is withdrawn as of March 13, 2012.

Dated: February 22, 2012.
Judith A. Enck,
Regional Administrator, Region II.

[FR Doc. 2012-5880 Filed 3-12-12; 8:45 am]

BILLING CODE 6560-50-P